NUCLEAR REGULATORY COMMISSION

[Docket No. 70-1113]

Notice of License Renewal Request for Global Nuclear Fuel—Americas, LLC, Wilmington, North Carolina, and Opportunity To Request a Hearing

AGENCY: Nuclear Regulatory Commission.

ACTION: Notice of license renewal application, and opportunity to request a hearing.

DATES: A request for a hearing must be filed by August 17, 2007.

FOR FURTHER INFORMATION CONTACT: Merritt Baker, Project Manager, Fuel Facility Licensing Directorate, Division of Fuel Cycle Safety and Safeguards, Office of Nuclear Material Safety and Safeguards, U.S. Nuclear Regulatory Commission, Washington, DC 20555. Telephone: (301) 415-6155; fax number: (301) 415-5955; e-mail: mnb@nrc.gov.

SUPPLEMENTARY INFORMATION:

I. Introduction

The U. S. Nuclear Regulatory Commission (NRC) has received, by letter dated April 2, 2007, a license renewal application from Global Nuclear Fuel-Americas, LLC (GNF—A), requesting renewal of License No. SNM-1097 for its fuel fabrication facility located in Wilmington, North Carolina. License No. SNM-1097 authorizes the licensee to possess and use special nuclear material for the manufacture of fuel for nuclear power plants.

The Wilmington facility has been licensed by the Atomic Energy Commission and its successor, the NRC, to manufacture low-enriched uranium fuel for nuclear power plants. The license was renewed in 1997 for a period of 10 years, expiring on June 30, 2007. By application dated April 2, 2007, GNF—A requested renewal of their license for a period of 40 years. The application addresses various topics, including ones related to emergency planning and physical security. The NRC will review the license renewal application for compliance with applicable safety requirements set forth in NRC regulations in Title 10 of the Code of Federal Regulations (10 CFR), which implement the Atomic Energy Act of 1954, as amended. The license renewal application included an Environmental Report, which the NRC will review in its evaluation of environmental issues, as required by 10 CFR Part 51, Environmental Protection Regulations for Domestic Licensing and Related Regulatory Functions, and the National Environmental Policy Act.

An NRC administrative review, documented in a letter to GNF-A dated May 14, 2007 (ML071170603), found the application acceptable to begin the NRC's more detailed technical review. Because GNF-A filed the application for renewal not less than thirty (30) days before the expiration of the date stated in the existing license, the existing license will not expire until the Commission makes a final determination on the renewal application, in accordance with the timely renewal provision of 10 CFR 70.38(a)(1). If the NRC approves the renewal application, the approval will be documented in NRC License No. SNM-1097. However, as indicated above, before approving the proposed renewal, the NRC will make the findings required by the Atomic Energy Act of 1954, as amended, and NRC's regulations. The safety findings will be documented in a Safety Evaluation Report.

II. Opportunity To Request a Hearing

The NRC hereby provides notice that this is a proceeding on an application for a license renewal. In accordance with the general requirements in Subpart C of 10 CFR Part 2, as amended on January 14, 2004 (69 FR 2182), any person whose interest may be affected by this proceeding and who desires to participate as a party, must file a written request for a hearing and a specification of the contentions which the person seeks to have litigated in the hearing.

In accordance with 10 CFR 2.302 (a), a request for a hearing must be filed with the Commission either by:

1. First class mail addressed to: Office of the Secretary, U.S. Nuclear Regulatory Commission, Washington, D.C. 20555-0001, Attention: Rulemakings and Adjudications Staff;

2. Courier, express mail, and expedited delivery services: Office of the Secretary, Sixteenth Floor, One White Flint North, 11555 Rockville Pike, Rockville, MD 20852, Attention: Rulemakings and Adjudications Staff, between 7:45 a.m. and 4:15 p.m., Federal workdays;

3. E-mail addressed to the Office of the Secretary, U.S. Nuclear Regulatory Commission, hearingdocket@nrc.gov; or

4. By facsimile transmission addressed to the Office of the Secretary, U.S. Nuclear Regulatory Commission, Washington, DC, Attention: Rulemakings and Adjudications Staff, at (301) 415-1101; verification number is (301) 415-1966.

In accordance with 10 CFR 2.302(b), all documents offered for filing must be accompanied by proof of service on all parties to the proceeding or their attorneys of record as required by law or by rule or order of the Commission, including:

1. The applicant, Global Nuclear Fuel—Americas, LLC, 3901 Castle Hayne Road, Wilmington, North Carolina, 28402, Attention: Scott Murray; and

2. The NRC staff, by delivery to the Office of the General Counsel, One White Flint North, 11555 Rockville Pike, Rockville, MD 20852, or by mail addressed to the Office of the General Counsel, U.S. Nuclear Regulatory Commission, Washington, DC 20555-0001. Hearing requests should also be transmitted to the Office of the General Counsel, either by means of facsimile transmission to (301) 415-3725, or via e-mail to ogcmailcenter@nrc.gov.

The formal requirements for documents contained in 10 CFR 2.304(b), (c), (d), and (e), must be met. In accordance with 10 CFR 2.304 (f), a document filed by electronic mail or facsimile transmission need not comply with the formal requirements of 10 CFR 2.304(b), (c), and (d), as long as an original and two (2) copies otherwise complying with all of the requirements of 10 CFR 2.304(b), (c), and (d) are mailed within two (2) days thereafter to the Secretary, U.S. Nuclear Regulatory Commission, Washington, DC 20555-0001, Attention: Rulemakings and Adjudications Staff.

In accordance with 10 CFR 2.309(b), a request for a hearing must be filed by August 17, 2007.

In addition to meeting other applicable requirements of 10 CFR 2.309, the general requirements involving a request for a hearing filed by a person other than an applicant must state:

1. The name, address, and telephone number of the requester;

2. The nature of the requester's right under the Act to be made a party to the proceeding;

3. The nature and extent of the requester's property, financial or other interest in the proceeding;

4. The possible effect of any decision or order that may be issued in the proceeding on the requester's interest; and

5. The circumstances establishing that the request for a hearing is timely in accordance with 10 CFR 2.309(b).

In accordance with 10 CFR 2.309(f)(1), a request for hearing or petitions for leave to intervene must set forth with particularity the contentions sought to be raised. For each contention, the request or petition must:

1. Provide a specific statement of the issue of law or fact to be raised or controverted;

2. Provide a brief explanation of the basis for the contention;

3. Demonstrate that the issue raised in the contention is within the scope of the proceeding;

4. Demonstrate that the issue raised in the contention is material to the findings that the NRC must make to support the action that is involved in the proceeding;

5. Provide a concise statement of the alleged facts or expert opinions which support the requester's/petitioner's position on the issue and on which the requester/petitioner intends to rely to support its position on the issue; and

6. Provide sufficient information to show that a genuine dispute exists with the applicant on a material issue of law or fact. This information must include references to specific portions of the license renewal application (including, if applicable, the applicant's environmental report and safety report) that the requester/petitioner disputes and the supporting reasons for each dispute, or, if the requester/petitioner believes the application fails to contain information on a relevant matter as required by law, the identification of each failure and the supporting reasons for the requester's/petitioner's belief.

In addition, in accordance with 10 CFR 2.309(f)(2), contentions must be based on documents or other information available at the time the petition is filed, such as the application, supporting safety analysis report, environmental report or other supporting documents filed by an applicant or licensee, or otherwise available to the petitioner. On issues arising under the National Environmental Policy Act, the requester/petitioner shall file contentions based on the applicant's environmental report. The requester/petitioner may amend those contentions or file new contentions if there are data or conclusions in the NRC draft, or final environmental analysis, or any supplements relating thereto, that differ significantly from the data or conclusions in the applicant's documents. Otherwise, contentions may be amended or new contentions filed after the initial filing only with leave of the presiding officer.

Each contention is to be given a separate numeric or alpha designation within one of the following groups:

1. Technical—primarily concerns safety issues relating to matters discussed or referenced in the Safety Evaluation Report for the proposed action.

2. Environmental—primarily concerns environmental issues relating to matters discussed or referenced in the Environmental Report for the proposed action.

3. Emergency Planning—primarily concerns issues relating to matters discussed or referenced in the Emergency Plan as it relates to the proposed action.

4. Physical Security—primarily concerns issues relating to matters discussed or referenced in the Physical Security Plan as it relates to the proposed action.

5. Miscellaneous—does not fall into one of the categories outlined above.

Requesters/petitioners should, when possible, consult with each other in preparing contentions and combine similar subject matter concerns into a joint contention, for which one of the co-sponsoring requesters/petitioners is designated the lead representative. Further, in accordance with 10 CFR 2.309(f)(3), any requester/petitioner that wishes to adopt a contention proposed by another requester/petitioner must do so in writing within ten days of the date the contention is filed, and designate a representative who shall have the authority to act for the requester/petitioner.

In accordance with 10 CFR 2.309 (g), a request for hearing and/or petition for leave to intervene may also address the selection of the hearing procedures, taking into account the provisions of 10 CFR 2.310.

III. Further Information

Documents related to this action, including the application for amendment and supporting documentation, are available electronically at the NRC's Electronic Reading Room at http://www.nrc.gov/reading-rm/adams.html. From this site, you can access the NRC's Agencywide Document Access and Management System (ADAMS), which provides text and image files of NRC's public documents. The ADAMS accession numbers for the documents related to this notice are:

Document | ADAMS accession No. | Date
Transmittal letter | ML071000128 | 4/2/07
License renewal application | ML071000128 | 4/2/07
Site Environmental Report Supplement | ML071000137 | 4/2/07
Environmental Report Supplement Appendix | ML071000144 | 4/2/07
NRC acceptance letter | ML071170603 | 5/14/07

If you do not have access to the NRC's ADAMS or if there are problems in accessing the documents located in ADAMS, contact the NRC Public Document Room (PDR), reference staff at 1-800-397-4209, 301-415-4737, or via e-mail to pdr@nrc.gov.

These documents may also be viewed electronically on the public computers located at the NRC's PDR, O-1-F-21, One White Flint North, 11555 Rockville Pike, Rockville, MD 20852. The PDR reproduction contractor will copy documents for a fee.

Dated at Rockville, Maryland, this 11th day of June, 2007.
For the Nuclear Regulatory Commission.
Gary Janosko,
Deputy Director, Fuel Facility Licensing Directorate, Division of Fuel Cycle Safety and Safeguards, Office of Nuclear Material Safety and Safeguards.

[FR Doc. E7-11686 Filed 6-15-07; 8:45 am]

BILLING CODE 7590-01-P